DEPARTMENT OF TRANSPORTATION

Federal Aviation Administration

Notice of Intent To Rule on Request To Release Airport Land at Nut Tree Airport, Vacaville, CA

AGENCY: Federal Aviation Administration, Department of Transportation.

ACTION: Notice of request to release airport land.

SUMMARY: The Federal Aviation Administration (FAA) proposes to rule and invites public comment on the release of Solano County from the conditions and restrictions contained in applicable grant agreements with the United States for approximately 1.9 acres of undeveloped airport land obligated for airport purposes at Nut Tree Airport, Vacaville, California, and which is not needed for airport purposes. The airport land is needed for the realignment and widening of East Monte Vista Avenue, the primary access to the Airport. The improvements to East Monte Vista Avenue represent a compatible land use and will provide better access to the Airport and enhance the value and economic vitality of the Airport. Upon the release of this airport land, the City of Vacaville will acquire the land at appraised fair market value. Solano County will use the sale proceeds for needed airport improvements.

DATES: Comments must be received on or before June 17, 2005.

ADDRESSES: Comments on this application may be mailed or delivered in triplicate to the FAA at the following address: Federal Aviation Administration, Airports Division, Federal Register Comment, 15000 Aviation Blvd., Lawndale, CA 90261. In addition, one copy of any comments submitted to the FAA must be mailed or delivered to Mr. Andrew Swanson, Airport Manager, Nut Tree Airport, 301 County Airport Road, Vacaville, California 95688.

FOR FURTHER INFORMATION CONTACT: Mr. Racior Cavole, Airports Compliance Specialist, San Francisco Airports District Office, Federal Aviation Administration, 831 Mitten Road, Room 210, Burlingame, California 94010, telephone (650) 876-2778, extension 677, and fax (650) 876-2733. For airport-specific information regarding the release, contact Mr. Andrew Swanson, Airport Manager, Nut Tree Airport at the address above or (707) 469-4600.

SUPPLEMENTARY INFORMATION: In accordance with the Wendell H. Ford Aviation Investment and Reform Act for the 21st Century (AIR 21), Pub. L. 10-181 (Apr. 5, 2000; 114 Stat. 61), this notice must be published in the Federal Register 30 days before the Secretary may waive any condition imposed on a federally obligated airport by the assurances in grant agreements.

The following is a brief overview of the request:

Solano County requested a release from the conditions and restrictions in applicable grant agreements with the United States for approximately 1.9 acres of undevelopment airport land obligated for airport purposes at Nut Tree Airport, Vacaville, California. The 1.9-acre parcel is not being used for airport purposes and is not needed for future airport development. This land is located next to the intersection of County Airport Road and the realigned East Monte Vista Avenue. The release will allow the City of Vacaville to acquire the property at the appraised fair market value of $351,000. Following acquisition, a major roadway improvement project will commence to widen and realign East Monte Vista Avenue. Airport access will be enhanced because East Monte Vista Avenue serves as the primary airport access road. The project will include water and sewer line upgrades. New development at the airport cannot take place without an improved water and sewerage system. The project will also include replacement of overhead power lines along East Monte Vista Avenue with underground joint trench. Solano County intends to use the sale proceeds of $351,000 to improve the water distribution system at Nut Tree Airport, which is needed for fire suppression, to meet local code, and promote needed airport development. The release will permit improvements that will provide tangible benefits to the airport and civil aviation.

Issued in Hawthorne, California, on April 1, 2005.
George Aiken,
Manager, Safety and Standards Branch, Airports Division, Western-Pacific Region.

[FR Doc. 05-9920 Filed 5-17-05; 8:45 am]

BILLING CODE 4910-13-M